NATIONAL ARCHIVES AND RECORDS ADMINISTRATION

[NARA-2017-046]

Advisory Committee on the Records of Congress

AGENCY: National Archives and Records Administration (NARA).

ACTION: Notice of advisory committee meeting.

SUMMARY: In accordance with the Federal Advisory Committee Act, we are announcing a meeting of the Advisory Committee on the Records of Congress. The committee advises NARA on the full range of programs, policies, and plans for the Center for Legislative Archives in NARA's Office of Legislative Archives, Presidential Libraries, and Museum Services (LL). This meeting will take place at the Capitol Visitor Center.

DATES: The meeting will be on June 26, 2017, from 10:00 a.m. to 11:30 a.m. EDT.

ADDRESSES: Capitol Visitor Center, Congressional Meeting Room North.

FOR FURTHER INFORMATION CONTACT: Sharon Shaver by email at sharon.shaver@nara.gov or the Center for Legislative Archives by phone at 202-357-5350.

SUPPLEMENTARY INFORMATION: The meeting is open to the public.

Agenda

(1) Chair's Opening Remarks—Clerk of the U.S. House of Representatives

(2) Recognition of co-chair—Secretary of the U.S. Senate

(3) Recognition of the Archivist of the United States

(4) Approval of the minutes of the last meeting

(5) House Archivist's report

(6) Senate Archivist's report

(7) Center for Legislative Archives update

(8) Other current issues and new business

Patrice Little Murray,
Committee Management Officer.

[FR Doc. 2017-11601 Filed 6-5-17; 8:45 am]

BILLING CODE 7515-01-P